DEPARTMENT OF COMMERCE

National Oceanic and Atmospheric Administration

[I.D. 091504A]

Magnuson-Stevens Act Provisions; General Provisions for Domestic Fisheries; Application for Exempted Fishing Permits (EFPs)

AGENCY: National Marine Fisheries Service (NMFS), National Oceanic and Atmospheric Administration (NOAA), Department of Commerce.

ACTION: Notification of a proposal for EFPs to conduct experimental fishing; request for comments.

SUMMARY: The Assistant Regional Administrator for Sustainable Fisheries, Northeast Region, NMFS (Assistant Regional Administrator) has made a preliminary determination that the subject EFP application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow one commercial fishing vessel to conduct fishing operations that are otherwise restricted by the regulations governing the fisheries of the Northeastern United States. The EFP would allow for exemptions from the FMP as follows: The Western Gulf of Maine (GOM) Closure Area and the minimum gillnet mesh size. Regulations under the Magnuson-Stevens Fishery Conservation and Management Act require publication of this notification to provide interested parties the opportunity to comment on applications for proposed EFPs.

DATES: Comments on this document must be received on or before October 5, 2004.

ADDRESSES: Written comments should be sent to Patricia A. Kurkul, Regional Administrator, NMFS, Northeast Regional Office, 1 Blackburn Drive, Gloucester, MA 01930. Mark the outside of the envelope “Comments on GOM Gillnet Study.” Comments may also be sent via facsimile (fax) to (978) 281-9135, or submitted via e-mail to the following address: da660@noaa.gov

FOR FURTHER INFORMATION CONTACT: Karen Tasker, Fishery Management Specialist, phone 978-281-9273.

SUPPLEMENTARY INFORMATION: The Gulf of Maine Research Institute, Massachusetts Division of Marine Fisheries, and Angelica Fisheries, Inc., submitted an application for an EFP on August 13, 2004. The primary goal of the research is to establish gillnet selectivity curves for haddock in the GOM, and to test whether it is possible to catch legal-size haddock with gillnet gear with mesh size that is less than 6.5 inches (16.5 cm) while avoiding catching cod or other species of concern in an area east of Cape Ann, Massachusetts, during the period January through April 2005. The EFP would allow for exemptions from the regulations implementing the FMP as follows: The Western GOM Closure Area specified at § 648.81(e) and the minimum gillnet mesh size specified at § 648.80(a)(3)(iv)(B)(1).

Five gillnets of mesh sizes ranging from 4.5 to 6.5 inches (11.4 to 16.5 cm), in 0.5-inch (1.3 cm) increments, would be fished in six groups (each group containing one net of each mesh size), for a total of 30 nets. The nets would be of standard commercial length, 300 ft (91.4 m), and approximately two-thirds the standard commercial height, resulting in a height of 7.5 ft (2.3 m). This net size was selected based on the applicants' belief that cod typically are captured in the upper meshes of standard nets when standard nets are fished in this area. The soak times in the early stages of the study would be approximately 3 to 6 hours in order to reduce the likelihood of unwanted bycatch. Soak times may be slowly increased up to 20 hours if doing so can be accomplished with minimal bycatch.

Researchers would fish in area off of Cape Ann, Massachusetts, between 42°35′ and 42°50′ N. lat. and 69°50′ to 70°15′ W. long. (30-minute squares 131 and 132). This area includes the Western GOM Closure Area. The research would take place over a total of 14 sea days and would occur on one commercial fishing vessel.

Researchers speculate that they will be able to catch haddock with minimal cod bycatch based on commercial fishing experience that indicates that small cod are not present in this area of relatively deep water during the proposed study period. Furthermore, commercial fishing experience indicates that haddock are present in high densities in the research area during the study period.

Researchers estimate that the total catch for the sampling days would be 30,000 lb (13,608 kg), of which less than 2,000 lb (907 kg) would be cod. Should researchers capture more than 2,000 lb (907 kg) of cod, access to the Western GOM Closure Area would be terminated.

The data collection activities aboard the participating vessels would be conducted by observers from the Gulf of Maine Research Institute and Massachusetts Division of Marine Fisheries to ensure compliance with the experimental fishery objectives.

Authority: 16 U.S.C. 1801 et seq.

Dated: September 15, 2004.
Alan D. Risenhoover,
Acting Director, Office of Sustainable Fisheries, National Marine Fisheries Service.

[FR Doc. E4-2247 Filed 9-17-04; 8:45 am]

BILLING CODE 3510-22-S